DEPARTMENT OF HEALTH AND HUMAN SERVICES

National Institutes of Health

National Eye Institute; Amended Notice of Meeting

Notice is hearby given of a chance in the meeting of the National Eye Institute Special Emphasis Panel, July 16, 2010, 8 a.m. to July 16, 2010, 5 p.m., Embassy Suites Hotel, Chevy Chase Pavilion, 4300 Military Road, NW., Washington, DC 20015 which was published in the Federal Register on June 14, 2010, Vol 75; Number 113.

The meeting will be held on July 19, 2010 at 8:30 a.m. The meeting is closed to the public.

Dated: June 23, 2010.
Jennifer Spaeth,
Director, Office of Federal Advisory Committee Policy.

[FR Doc. 2010-15781 Filed 6-28-10; 8:45 am]

BILLING CODE 4140-01-P